DEPARTMENT OF STATE

[Public Notice 3257]

Fine Arts Committee; Notice of Meeting

The Fine Arts Committee of the Department of State will meet on Saturday, April 29, 2000 at 9:30 a.m. in the John Quincy Adams State Drawing Room. The meeting will last until approximately 11:00 a.m. and is open to the public.

The agenda for the committee meeting will include a summary of the work of the Fine Arts Office since its last meeting in October 1999 and the announcement of gifts of furnishings as well as financial contributions from January 1 through December 31, 1999. Public access to the Department of State is strictly controlled. Members of the public wishing to take part in the meeting should telephone the Fine Arts Office by Monday, April 24, 2000, telephone (202) 647-1990 to make arrangements to enter the building. The public may take part in the discussion as long as time permits and at the discretion of the chairman.

Dated: March 13, 2000.
Gail F. Serfaty,
Vice Chairman, Fine Arts Committee, Department of State.

[FR Doc. 00-6681 Filed 3-16-00; 8:45 am]

BILLING CODE 4710-38-U